DEPARTMENT OF ENERGY

Federal Energy Regulatory Commission

Combined Notice of Filings #1

Take notice that the Commission received the following electric corporate filings:

Docket Numbers: EC22-39-000.

Applicants: Long Ridge Energy Generation LLC, Long Ridge Retail Electric Supplier LLC.

Description: Joint Application for Authorization Under Section 203 of the Federal Power Act of Long Ridge Energy Generation LLC, et al.

Filed Date: 1/21/22.

Accession Number: 20220121-5205.

Comment Date: 5 p.m. ET 2/11/22.

Take notice that the Commission received the following exempt wholesale generator filings:

Docket Numbers: EG22-45-000.

Applicants: Jicarilla Solar 2 LLC.

Description: Notice of Self-Certification of Exempt Wholesale Generator Status of Jicarilla Solar 2 LLC.

Filed Date: 1/24/22.

Accession Number: 20220124-5070.

Comment Date: 5 p.m. ET 2/14/22.

Docket Numbers: EG22-46-000.

Applicants: Brazoria West Solar Project, LLC.

Description: Exempt Wholesale Generator Filing for Brazoria West Solar Project, LLC.

Filed Date: 1/24/22.

Accession Number: 20220124-5076.

Comment Date: 5 p.m. ET 2/14/22.

Take notice that the Commission received the following electric rate filings:

Docket Numbers: ER10-2912-008.

Applicants: Alliance For Cooperative Energy Services Power Marketing LLC.

Description: Notice of Non-Material Change in Status of Alliance For Cooperative Energy Services Power Marketing LLC.

Filed Date: 1/21/22.

Accession Number: 20220121-5216.

Comment Date: 5 p.m. ET 2/11/22.

Docket Numbers: ER19-668-002.

Applicants: Energy Center Dover LLC.

Description: Energy Center Dover LLC submits a Request for Limited One-Time Prospective Waiver of Tariff Provisions with Expedited Consideration.

Filed Date: 1/21/22.

Accession Number: 20220121-5220.

Comment Date: 5 p.m. ET 2/11/22.

Docket Numbers: ER20-1954-001.

Applicants: ITC Great Plains, LLC, Southwest Power Pool, Inc.

Description: Compliance filing: ITC Great Plains, LLC submits tariff filing per 35: ITC Great Plains, LLC Revised Order No. 864 Compliance Filing to be effective N/A.

Filed Date: 1/24/22.

Accession Number: 20220124-5036.

Comment Date: 5 p.m. ET 2/14/22.

Docket Numbers: ER22-516-001.

Applicants: Arizona Public Service Company.

Description: Tariff Amendment: Service Agreement No. 396 Deferral of Action to be effective 12/31/9998.

Filed Date: 1/24/22.

Accession Number: 20220124-5135.

Comment Date: 5 p.m. ET 2/14/22.

Docket Numbers: ER22-868-000.

Applicants: ITC Midwest LLC.

Description: Tariff Amendment: Notice of Cancellation of CIAC Agreement with NSPM to be effective 3/23/2022.

Filed Date: 1/21/22.

Accession Number: 20220121-5181.

Comment Date: 5 p.m. ET 2/11/22.

Docket Numbers: ER22-869-000.

Applicants: California Independent System Operator Corporation.

Description: § 205(d) Rate Filing: 2022-01-21 Amendment to Implement EIM Sub-Entity and EIM Sub-Entity SC Roles to be effective 4/1/2022.

Filed Date: 1/21/22.

Accession Number: 20220121-5189.

Comment Date: 5 p.m. ET 2/11/22.

Docket Numbers: ER22-870-000.

Applicants: Arizona Public Service Company.

Description: § 205(d) Rate Filing: Rate Schedule No. 217 Exhibit B Revisions to be effective 3/27/2022.

Filed Date: 1/24/22.

Accession Number: 20220124-5054.

Comment Date: 5 p.m. ET 2/14/22.

Docket Numbers: ER22-871-000.

Applicants: Jicarilla Solar 2 LLC.

Description: Baseline eTariff Filing: Application for Market-Based Rate Authority to be effective 2/7/2022.

Filed Date: 1/24/22.

Accession Number: 20220124-5062.

Comment Date: 5 p.m. ET 2/14/22.

Docket Numbers: ER22-872-000.

Applicants: Jicarilla Solar 2 LLC.

Description: Initial rate filing: Filing of Shared Facilities Agreement and Request for Waivers to be effective 3/26/2022.

Filed Date: 1/24/22.

Accession Number: 20220124-5066.

Comment Date: 5 p.m. ET 2/14/22.

Docket Numbers: ER22-873-000.

Applicants: Florida Power & Light Company.

Description: § 205(d) Rate Filing: FPL and DEF Facility Construction Agreement for Affected System Project to be effective 1/25/2022.

Filed Date: 1/24/22.

Accession Number: 20220124-5086.

Comment Date: 5 p.m. ET 2/14/22.

Docket Numbers: ER22-874-000.

Applicants: Graphite Solar 1, LLC.

Description: Baseline eTariff Filing: Baseline Market Rate Based Filing to be effective 1/24/2022.

Filed Date: 1/24/22.

Accession Number: 20220124-5126.

Comment Date: 5 p.m. ET 2/14/22.

Docket Numbers: ER22-875-000.

Applicants: California Independent System Operator Corporation.

Description: § 205(d) Rate Filing: 2022-01-24 Certificate of Concurrence—LGIA McFarland to be effective 11/29/2021.

Filed Date: 1/24/22.

Accession Number: 20220124-5136.

Comment Date: 5 p.m. ET 2/14/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 24, 2022.
Debbie-Anne A. Reese,
Deputy Secretary.

[FR Doc. 2022-01761 Filed 1-27-22; 8:45 am]

BILLING CODE 6717-01-P